DEPARTMENT OF HEALTH AND HUMAN SERVICES

National Institutes of Health

Submission for OMB Review; Comment Request; Ethical Issues Associated With Nurse Practitioner and Physician Assistant Practice: A Comparative Analysis

SUMMARY: Under the provisions of Section 3507(a)(1)(D) of the Paperwork Reduction Act of 1995, the Department of Clinical Bioethics, the National Institutes of Health (NIH) has submitted to the Office of Management and Budget (OMB) a request for review and approval of the information collected listed below. This proposed information collection was previously published in the Federal Register on January 22, 2002, page 2892 and allowed 60 days for public comment. Public comments were received. The purpose of this notice is to allow an additional 30 days for public comment. The National Institutes of Health may not conduct or sponsor, and the respondent is not required to respond to an information collection that has been extended, revised, or implemented on or after October 1, 1995, unless it displays a currently valid OMB control number.

Proposed Collection

Title: Ethical Issues Associated with Nurse Practitioner and Physician Assistant Practice: A Comparative Analysis. Type of Information Collection Request: New. Need and Use of Information Collected: The purposes of the study are (1) to examine whether the current practice environment has created ethical concerns/conflict for Nurse Practitioners and Physician Assistants in the provision of patient care; (2) to explore relationships between selected individual, organizational, and state regulatory factors and ethical conflict in practice and the perceived delivery of quality care; and (3) to examine the perceived level of ethics preparedness and confidence in ethics decision-making. The findings will provide valuable information concerning: (1) The importance of ethics and ethical factors from the perspective of different professional groups, and (2) ethics educational needs of Nurse Practitioners and Physician Assistants. Frequency of Response: Once. Affected Public: Individuals; Academic Institutions, Business or for-profit; Not-for-profit organizations. Type of Respondents: Nurse Practitioners and Physician Assistants. The annual reporting burden follows in the table below. The annualized cost to respondents is estimated at: $97,500. There are no Capital Costs to report. There are no Operating or Maintenance Costs to report.

Respondent and Burden Estimate Information

Type of respondents | Estimated number of respondents | Estimated number of responses per respondent | Average burden hours per response | Estimated total annual burden hours requested
Nurse Practitioners | 1950 | 1 | .33 | 643.5
Physician Assistants | 1950 | 1 | .33 | 643.5
Total |  |  |  | 1287

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used, (3) Ways to enhance the quality, utility, and clarity of the information to be collected; and (4) Ways to minimize the burden of the collection of information on those who are to respond including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Connie Ulrich, RN, PhD., Principal Investigator, Department of Clinical Bioethics, Warren G. Magnuson Clinical Center, Building 10, Room 1C118, Bethesda, MD 20892, or call non-toll-free number (301) 451-8338 or E-mail your request, including your address to culrich@cc.nih.gov.

Comments Due Date

Comments regarding this information collection are best assured of having their full effect if received within 30-days of the date of this publication.

Dated: June 3, 2002.
David K. Henderson,
Deputy Director, Warren G. Magnuson Clinical Center, National Institutes of Health.
Ezekiel J. Emanuel,
Director, Department of Clinical Bioethics, Warren G. Magnuson Clinical Center, National Institutes of Health.

[FR Doc. 02-14438 Filed 6-7-02; 8:45 am]

BILLING CODE 4141-01-M